DEPARTMENT OF HEALTH AND HUMAN SERVICES

Centers for Disease Control and Prevention

The National Center for Chronic Disease Prevention and Health Promotion, Office on Smoking and Health; Interagency Committee on Smoking and Health

Notice of Cancellation: This notice was published in the Federal Register on August 15, 2008, Volume 73, Number 159, page 47952. The meeting previously scheduled to convene on September 16, 2008 has been cancelled.

For Further Information Contact: Ms. Monica L. Swann, Management and Program Analyst, Office on Smoking and Health, Centers for Disease Control and Prevention, 4770 Buford Highway, M/S K50, Atlanta, GA 30341; telephone (770) 488-5278, fax (770) 488-5767; E-mail mswann@cdc.gov.

The Director, Management Analysis and Services Office, has been delegated the authority to sign Federal Register notices pertaining to announcements of meetings and other committee management activities, for both the Centers for Disease Control and Prevention and the Agency for Toxic Substances and Disease Registry.

Dated: September 8, 2008.
Elaine L. Baker,
Director, Management Analysis and Service Office, Centers for Disease Control and Prevention.

[FR Doc. E8-21280 Filed 9-11-08; 8:45 am]

BILLING CODE 4163-18-P